DEPARTMENT OF THE TREASURY

Financial Crimes Enforcement Network; Bank Secrecy Act Advisory Group; Solicitation of Application for Membership; Correction

AGENCY: Financial Crimes Enforcement Network (FinCEN), Treasury.

ACTION: Notice; correction.

SUMMARY: On December 7, 2006, FinCEN published a Federal Register notice inviting the public to nominate financial organizations and trade groups for membership in the Bank Secrecy Act Advisory Group. Inadvertently the available vacancies announced for “Industry Representatives Banking” and the list of members whose terms end as of February 28, 2007 were incorrect. This document corrects that information. Persons responding to the previous notice need not respond again.

DATES: Nominations must be received by January 8, 2007.

ADDRESSES: Applications may be mailed (not sent by facsimile) to Regulatory Policy and Programs Division, Financial Crimes Enforcement Network, P.O. BOX 39, Vienna, VA 22183 or e-mailed to: BSAAG@fincen.gov.

FOR FUTHER INFORMATION CONTACT: Yesenia Armijo, Regulatory Policy Specialist at 202-354-6400.

SUPPLEMENTARY INFORMATION: The Annunzio-Wylie Anti-Money Laundering Act of 1992 required the Secretary of the Treasury to establish a Bank Secrecy Act Advisory Group (BSAAG) consisting of representatives from federal regulatory and law enforcement agencies, financial institutions, and trade groups subject to the reporting requirements of the Bank Secrecy Act, 31 CFR part 103 et seq. or Section 6050I of the Internal Revenue Code of 1986. The BSAAG is the means by which the Secretary receives advice on the operations of the Bank Secrecy Act.

New members will be selected to serve a three-year term. Applications should consist of:

• Point of contact, title, address, e-mail address, phone number

• Description of the financial institution or trade group and its involvement with the Bank Secrecy Act, 31 CFR part 103 et seq.

• Reasons why its participation on the BSAAG will bring value to the group

Entities may nominate themselves.

Based on current BSAAG position openings we encourage applications from the following sectors or types of organizations with experience working on the Bank Secrecy Act:

• State Regulatory Agency (1 vacancy).

• State Banking Trade Group (1 vacancy).

• Industry Trade Group—Banking Sector (1 vacancy).

• Industry Trade Group—Casino (1 vacancy).

• Industry Trade Group—Precious Metals, Stones, and Jewels (1 vacancy).¹

¹ This is a newly created position in light of the decision adopted at the May 2006 BSAAG Plenary.

• Industry Trade Group-Money Services Business Sector (1 vacancy).

• Industry Representatives Banking (3 vacancies).

• Industry Representatives Securities/ Futures (2 vacancies).²

² An additional position was created in light of the decision adopted at the May 2006 BSAAG Plenary.

• Industry Representatives Money Services Business (1 vacancy).

BSAAG members whose terms end as of February 28, 2007,³ are:

³ State regulatory agencies, state regulator trade groups, self-regulatory organizations, and industry trade groups can serve renewable three-year terms at the discretion of the Director of FinCEN. Industry members may not serve consecutive terms but may serve multiple terms.

State Regulatory Agency:

• New York State Banking Department.

State Banking Trade Group:

• California Bankers Association.

Industry Trade Group—Banking Sector:

• Independent Community Bankers Association.

Industry Trade Group—Casino:

• American Gaming Association.

Industry Trade Group—Money Services Business Sector:

• Financial Service Center of America.

Industry Representatives Banking:

• Bank of America.

• Branch Bank & Trust.

• Pentagon Federal Credit Union.

Industry Representatives Securities/Futures:

• Morgan Stanley.

Industry Representatives Money Services Business:

• American Express.

Dated: December 27, 2006.
William F. Baity,
Deputy Director, Financial Crimes Enforcement Network.

[FR Doc. E6-22572 Filed 1-4-07; 8:45 am]

BILLING CODE 4810-02-P